DEPARTMENT OF THE TREASURY

Office of Foreign Assets Control

Additional Designations of Entities Pursuant to Executive Order 13464

AGENCY: Office of Foreign Assets Control, Treasury.

ACTION: Notice.

SUMMARY: The Treasury Department's Office of Foreign Assets Control (“OFAC”) is publishing the names of seven newly-designated entities whose property and interests in property are blocked pursuant to Executive Order 13464 of April 30, 2008, “Blocking Property and Prohibiting Certain Transactions Related to Burma.”

DATES: The designation by the Director of OFAC of seven entities identified in this notice, pursuant to Executive Order 13464, is effective July 29, 2008.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Information about these designations and additional information concerning OFAC is available from OFAC's Web site (http://www.treas.gov/ofac) or via facsimile through a 24-hour fax-on-demand service, Tel.: 202/622-0077.

Background

On April 30, 2008, the President signed Executive Order 13464 (the “Order”) pursuant to, inter alia, the International Emergency Economic Powers Act (50 U.S.C. 1701 et seq.). In the Order, the President took additional steps with respect to the national emergency declared in Executive Order 13047 of May 20, 1997, and expanded in Executive Order 13448 of October 18, 2007, to address the Government of Burma's continued repression of the democratic opposition in Burma. The President identified three entities as subject to the economic sanctions in the Annex to the Order.

Section 1 of the Order blocks, with certain exceptions, all property and interests in property that are in, or hereafter come within, the United States, or within the possession or control of United States persons, of the persons listed in the Annex, as well as those persons determined by the Secretary of the Treasury, after consultation with the Secretary of State, to satisfy any of the criteria set forth in subparagraphs (b)(i)-(b)(iii) of Section 1. On July 29, 2008, the Director of OFAC exercised the Secretary of the Treasury's authority to designate, pursuant to one or more of the criteria set forth in Section 1, subparagraphs (b)(i)-(b)(iii) of the Order, the following seven entities, whose names have been added to the list of Specially Designated Nationals and whose property and interests in property are blocked pursuant to Executive Order 13464:

Entities

1. CO-OPERATIVE EXPORT-IMPORT ENTERPRISE (a.k.a. CEIE), 259/263 Bogyoke Aung San Street, Yangon, Burma [BURMA]

2. MYANMAR ECONOMIC CORPORATION (a.k.a. MEC), 74-76 Shwedagon Pagoda Road, Dagon Township, Yangon, Burma [BURMA]

3. MYANMAR IMPERIAL JADE CO., LTD, 22 Sule Pagoda Road, Mayangone Township, Yangon, Burma [BURMA]

4. MYANMAR RUBY ENTERPRISE CO. LTD. (a.k.a. MYANMAR RUBY ENTERPRISE), 24/26 Sule Pagoda Road, Kyauktada Township, Yangon, Burma [BURMA]

5. MYAWADDY BANK LTD. (a.k.a. MYAWADDY BANK), 24/26 Sule Pagoda Road, Yangon, Burma [BURMA]

6. MYAWADDY TRADING LTD. (a.k.a. MYAWADDY TRADING CO.), 189-191 Maha Bandoola Street, Botataung P.O, Yangon, Burma [BURMA]

7. UNION OF MYANMAR ECONOMIC HOLDINGS LIMITED (a.k.a. MYANMAR ECONOMIC HOLDINGS LIMITED; a.k.a. UMEH; a.k.a. UNION OF MYANMAR ECONOMIC HOLDINGS COMPANY LIMITED), 189-191 Maha Bandoola Road, Botahtaung Township, Yangon, Burma [BURMA]

Dated: July 29, 2008.
Adam J. Szubin,
Director, Office of Foreign Assets Control.

[FR Doc. E8-17745 Filed 8-1-08; 8:45 am]

BILLING CODE 4811-42-P